DEPARTMENT OF HOMELAND SECURITY

Office of the Citizenship and Immigration Services Ombudsman; DHS CIS Ombudsman Case Problem Submission

AGENCY: Office of the Citizenship and Immigration Services Ombudsman, DHS.

ACTION: 60-Day Notice and request for comments; Extension of an existing information collection 1601-0004, DHS Form 7001.

SUMMARY: The Department of Homeland Security, Office of the Citizenship and Immigration Services Ombudsman, submits this extension for the following information collection request (ICR) to the Office of Management and Budget (OMB) for review and clearance in accordance with the Paperwork Reduction Act of 1995 (Pub. L. 104-13, 44 U.S.C. Chapter 35). The Office of the Citizenship and Immigration Services Ombudsman is soliciting comments concerning an extension to an existing information collection, DHS CIS Ombudsman Case Problem Submission, DHS Form 7001.

DATES: Comments are encouraged and will be accepted until November 26, 2007. This process is conducted in accordance with 5 CFR 1320.1

ADDRESSES: Written comments and/or suggestions regarding the item(s) contained in this notice, especially regarding the estimated public burden and associated response time, should be directed to the Department of Homeland Security (DHS), Office of the CIS Ombudsman, Director of Communications, Mail Stop 1225, Washington, DC 20528-1225. Comments may also be submitted to DHS via facsimile to 202-272-8352, 202-357-0042 or via e-mail at rfs.regs@dhs.gov or cisombudsman@dhs.gov.

FOR FURTHER INFORMATION CONTACT: If additional information is required contact: the Department of Homeland Security (DHS), Office of the CIS Ombudsman, Director of Communications, Mail Stop 1225, Washington, DC 20528-1225, 202-357-8100.

SUPPLEMENTARY INFORMATION: The Department of Homeland Security, Office of the Deputy Secretary, Office of the Citizenship and Immigration Services Ombudsman (CISOMB), collects information to receive and process correspondence received from individuals, employers, and their designated representatives to: (1) Assist individuals and employers in resolving problems during interactions with U.S. Citizenship and Immigration Services (USCIS); (2) identify areas in which individuals and employers have problems in dealing with USCIS; and (3) and to the extent possible, propose changes to mitigate problems as mandated by the Homeland Security Act of 2002, section 452.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and;

4. Minimize the burden of the collection of information on those who are to respond, including through the use of appropriate automated, electronic, mechanical, or other technological collection techniques or other forms of information technology, e.g., permitting electronic submissions of responses.

Analysis

Agency: Department of Homeland Security, Office of the Citizenship and Immigration Services Ombudsman.

Title: DHS CIS Ombudsman Case Problem Submission.

OMB Number: 1601-0004.

Frequency: One-time response.

Affected Public: Individuals or Households. This information collection is necessary for CISOMB to identify problem areas, propose changes, and assist individuals experiencing problems during adjudication of an immigrant benefit with USCIS.

Number of Respondents: 2,600 respondents.

Estimated Time per Respondent: 1 Hour per response.

Total Burden Hours: 2,600 annual burden hours.

Total Burden Cost (capital/startup): $0.00.

Total Burden Cost (operating/maintaining): $0.00.

Scott Charbo,
Chief Information Officer.

[FR Doc. E7-19034 Filed 9-25-07; 8:45 am]

BILLING CODE 4410-10-P